ADVISORY COUNCIL ON HISTORIC PRESERVATION

Public Meeting Regarding the Pensacola Naval Air Station Historic District

AGENCY: Advisory Council on Historic Preservation.

ACTION: Notice of public meeting, and opportunity for public comments, regarding the proposed demolition of properties within the Pensacola Naval Air Station Historic District.

SUMMARY: The Advisory Council on Historic Preservation (ACHP) will hold a public meeting regarding the Navy's intent to demolish several buildings within the Pensacola Naval Air Station Historic District. After considering public input, the ACHP will issue its formal comments on the proposed action to the Navy. The Navy will take into account the ACHP's comments prior to making a final decision on the matter.

DATES: The public meeting will take place on Monday, August 8, 2005, starting at 12:30 p.m. CDT (we expect the meeting to end at 4 p.m. CDT). Submit written comments on or before August 8, 2005.

ADDRESSES: The public meeting will take place at the McMillan Room (room 3720), located in building 3700, Pensacola Junior College (Warrington Campus), 5555 Hwy 98 West, Pensacola, Florida.

Address all written comments concerning this proposed action by the Navy to Don Klima, Office of Federal Agency Programs, Advisory Council on Historic Preservation, 1100 Pennsylvania Avenue, NW., Suite 809, Washington, DC 20004. You may also submit written comments via facsimile at (202) 606-8672 or via electronic mail at dklima@achp.gov.

FOR FURTHER INFORMATION CONTACT: Don Klima, (202) 606-8503.

SUPPLEMENTARY INFORMATION: Section 106 of the National Historic Preservation Act requires Federal agencies to consider the effects of their undertakings on historic properties and provide the Advisory Council on Historic Preservation (“ACHP”) a reasonable opportunity to comment with regard to such undertakings. The ACHP has issued the regulations that set forth the process through which Federal agencies comply with these duties. Those regulations are codified under 36 CFR part 800 (“Section 106 regulations”).

Under the Section 106 regulations, when an undertaking may adversely affect historic properties, the Federal agency must consult in an attempt to reach an agreement to avoid, minimize or mitigate those adverse effects. Such an agreement is called a Memorandum of Agreement (MOA).

On September 15, 2004, Hurricane Ivan struck the panhandle area of Florida, causing extensive damage to Naval Air Station Pensacola and environs. Sustaining particular damage was the Pensacola Naval Air Station Historic District, a National Historic Landmark.

On March 11, 2005 an MOA was concluded between the Department of the Navy, the Florida State Historic Preservation Officer, and the ACHP for proposed plans by the Navy to recover from damages caused by Hurricane Ivan. The National Trust for Historic Preservation (NTHP) and the National Park Service (NPS) also participated in that consultation. Consultation was very difficult due to time pressures and the extensive amount of demolition proposed by the Navy.

The MOA accepted much of the proposed demolition of historic structures, but identified 16 structures of “greatest significance” to the historic district. The MOA called for the Navy to stabilize these structures and prepare for each a “preservation analysis report” (PAR) that would examine the historic and architectural value of each buildings and assess damages and costs associated with various treatment options. The consulting parties were to then be given an opportunity to comment on the reports, following which the Navy would then decide how each of the 16 buildings would be treated. Following notification of the Navy's decision, the consulting parties could object to the Navy's decision, thus triggering dispute resolution provisions in the MOA that provide for further ACHP review and comment.

By June 18, 2005, the 16 PARs had been provided to the consulting parties. Extensive comments were provided on the reports by the Florida SHPO and the NTHP on July 12th and July 13th, respectively.

On July 15th, the Navy notified the consulting parties of its intention to proceed with demolition of all but 3 of the 16 identified buildings. Anticipating likely objection from the consulting parties, the Navy invoked the dispute resolution provisions in the MOA.

In response, the ACHP Chairman has elected to prepare comments for the Navy pursuant to the MOA and 36 CFR 800.7(c), and convened a panel of ACHP members to review this matter and develop ACHP comments. The Navy must consider these comments in reaching a final decision on the treatment of the 16 buildings.

The public meeting announced in this notice is designed to provide the public with an opportunity to provide its input regarding the ACHP's final comment on the matter.

Dated: July 26, 2005.
Don Klima,
Acting Executive Director.

[FR Doc. 05-15038 Filed 7-28-05; 8:45 am]

BILLING CODE 4310-10-M